DEPARTMENT OF THE INTERIOR

Fish and Wildlife Service

Draft Environmental Assessment and Habitat Conservation Plan for an Incidental Take Permit for the Six Points Road Interchange and Related Development in Marion and Hendricks Counties, Indiana

AGENCY: Fish and Wildlife Service, Interior.

ACTION: Notice of comment period extension.

SUMMARY: This notice advises the public and other agencies that the comment period for the draft Environmental Assessment (EA), Habitat Conservation Plan (HCP) and Incidental Take Permit (ITP) application is extended due to the department-wide prohibition on the use of electronic mail and the Internet. The original notice of availability was published in the Federal Register on November 20, 2001, (Vol. 66, No. 224, 58159-58160). Early in December 2001, the U.S. District Court issued a temporary restraining order on all Department of Interior employees use of the Internet. The original notice listed an e-mail address where comments could be sent. However, the public access to this e-mail address and Internet site has been invalid since December 2001. The Service is concerned that any comments sent via e-mail would not be available for our review. This notice is provided pursuant to section 10(a) of the Act and National Environmental Policy Act regulations (40 CFR 1506.6). Send comments on the draft HCP and EA to the Regional HCP Coordinator, at the address below.

DATES: Written comments must be received on or before March 8, 2002.

ADDRESSES: Persons wishing to review the documents may obtain copies by writing, telephoning, or faxing: Regional HCP Coordinator, U.S. Fish and Wildlife Services, 1 Federal Drive, Fort Snelling, Minnesota 55111-4056, Telephone: (612) 713-5343, Fax: (612) 713-5292.

Public Involvement: Documents will be available for public inspection during normal business hours (8:00-4:30), at the U.S. Fish and Wildlife Service Regional Office in Fort Snelling, Minnesota, and at the Bloomington Field Office in Bloomington, Indiana. The draft HCP and EA are available for public review and comment for a period of 30 additional days.

FOR FURTHER INFORMATION CONTACT: Mr. Peter Fasbender, Regional HCP Coordinator, U.S. Fish and Wildlife Service, Fort Snelling, Minnesota, Telephone: (612) 713-5343.

Dated: January 24, 2002.
Charles M. Wooley,
Assistant Regional Director, Ecological Services, Region 3, Fort Snelling, Minnesota.

[FR Doc. 02-2807 Filed 2-5-02; 8:45 am]

BILLING CODE 4310-55-P